DEPARTMENT OF COMMERCE

National Oceanic and Atmospheric Administration

RIN 0648-XF755

Fisheries of the South Atlantic; South Atlantic Fishery Management Council; Public Meetings

AGENCY: National Marine Fisheries Service, National Oceanic and Atmospheric Administration, Commerce.

ACTION: Notice of a public meeting.

SUMMARY: The South Atlantic Fishery Management Council's (Council) Snapper Grouper Advisory Panel (AP) will meet to discuss proposed changes to management of the snapper grouper fishery, provide information, and receive updates. See SUPPLEMENTARY INFORMATION.

DATES: The Snapper Grouper AP meeting will be held Wednesday, November 8, 2017, from 9 a.m. until 5 p.m. and from 9 a.m. until 5 p.m. on Thursday, November 9, 2017.

ADDRESSES:

Meeting address: The meeting will be held at the Crowne Plaza Hotel; 4831 Tanger Outlet Boulevard, North Charleston, SC 29418.

Council address: South Atlantic Fishery Management Council, 4055 Faber Place Drive, Suite 201, N. Charleston, SC 29405.

FOR FURTHER INFORMATION CONTACT: Kim Iverson, Public Information Officer, South Atlantic Fishery Management Council, 4055 Faber Place Drive, Suite 201, N. Charleston, SC 29405; phone: (843) 571-4366 or toll free: (866) SAFMC-10; fax: (843) 769-4520; email: kim.iverson@safmc.net.

SUPPLEMENTARY INFORMATION: The Snapper Grouper AP will review and provide recommendations on developing amendments to the Snapper Grouper Fishery Management Plan (recreational and commercial visioning amendments and best fishing practices and recreational reporting amendment); provide information to develop fishery performance reports on black sea bass and vermilion snapper; and receive updates on items including stock assessments, recreational data reporting projects, a proposed moratorium on for-hire permits, and other items.

Special Accommodations

This meeting is accessible to people with disabilities. Requests for auxiliary aids should be directed to the SAFMC office (see ADDRESSES) at least 5 business days prior to the meeting.

Note: The times and sequence specified in this agenda are subject to change.

Authority: 16 U.S.C. 1801 et seq.

Dated: October 18, 2017.
Tracey L. Thompson,
Acting Deputy Director, Office of Sustainable Fisheries, National Marine Fisheries Service.

[FR Doc. 2017-22902 Filed 10-20-17; 8:45 am]

BILLING CODE 3510-22-P